DEPARTMENT OF DEFENSE

Department of the Army, Corps of Engineers

Notice of Intent To Prepare an Environmental Impact Statement and Conduct Scoping Meeting for the Berths 226-236 [Everport] Container Terminal Improvements Project at the Port of Los Angeles, in the City and County of Los Angeles, California (SPL-2013-00756-TS)

AGENCY: U.S. Army Corps of Engineers, DOD.

ACTION: Notice of intent.

SUMMARY: The purpose of this notice is to initiate the scoping process for preparation of an Environmental Impact Statement (EIS) for the Los Angeles Harbor Department (LAHD) Berths 226-236 [Everport] Container Terminal Improvements Project.

DATES: Submit comments concerning this notice on or before November 24, 2014. A public scoping meeting will be held on November 13, 2014 at 6:00 p.m. (PST).

ADDRESSES: The scoping meeting location is: Los Angeles Harbor Department, Board of Harbor Commissioners hearing room, 425 S. Palos Verdes Street, San Pedro, California 90731.

Mail written comments concerning this notice to: U.S. Army Corps of Engineers, Los Angeles District, Regulatory Division, Ventura Field Office, ATTN: SPL-2013-00756-TS, 2151 Alessandro Drive, Suite 110, Ventura, CA 93001. Comment letters should include the commenter's physical mailing address, the project title and the Corps file number in the subject line.

FOR FURTHER INFORMATION CONTACT: Theresa Stevens, Ph.D., U.S. Army Corps of Engineers, Los Angeles District, Regulatory Division, Ventura Field Office, ATTN: SPL-2013-00756-TS, 2151 Alessandro Drive, Suite 110, Ventura, CA 93001, (805) 585-2146, theresa.stevens@usace.army.mil.

SUPPLEMENTARY INFORMATION: In accordance with the National Environmental Policy Act (NEPA), the Corps is requiring the preparation of an Environmental Impact Statement (EIS) prior to any permit action. The Corps may ultimately make a determination to permit or deny the proposed project or a modified version of the proposed project. The primary Federal concerns are dredging, dredged material disposal, addition of permanent structures in and over navigable waters of the U.S., and transport of dredged material for the purpose of ocean disposal.

Pursuant to the California Environmental Quality Act (CEQA) the LAHD will serve as Lead Agency in preparing an Environmental Impact Report (EIR) for its consideration of development approvals within its jurisdiction. The Corps and LAHD have agreed to jointly prepare a Draft EIS/EIR to optimize efficiency and avoid duplication. The Draft EIS/EIR is intended to be sufficient in scope to address the Federal, state and local requirements and environmental issues concerning the proposed activities and permit approvals.

Authority: 33 U.S.C. 403; 33 U.S.C. 1344; 33 U.S.C. 1413.

1. Project Site and Background Information. The 205-acre project site is located on Terminal Island along the east side of the Main Channel and immediately south of the State Route 47 bridge. The site is within the Port of Los Angeles Community Plan area in the City and County of Los Angeles, near the communities of San Pedro and Wilmington, and approximately 20 miles south of downtown Los Angeles. The purpose of the project is to improve marine shipping and maritime commerce to optimize the container-handling efficiency and capacity at Berths 226-236, and to accommodate berthing and servicing of the largest container ships that may call at the Port of Los Angeles. The terminal is operated by Seaside Transportation Services (STS). Everport Terminal Services Inc. (ETS) (a wholly owned subsidiary of Evergreen Marine Corporation) is the permit holder under a lease agreement (Permit No. 888, as amended) between LAHD and ETS.

2. Proposed Action. The LAHD has proposed to redevelop the existing container terminal at Berths 226-236. The following actions require a Department of the Army permit. Berths 226-229: Approximately 25,000 cubic yards (cy) of dredging would increase the design depth from −45 feet to −53 feet mean lower low water (MLLW), approximately 1,400 linear feet of king piles and sheet piles would be installed to stabilize the wharf, and three new 100-foot gauge overwater gantry cranes would be installed and three existing cranes would be modified to increase their overall height and reach. Berths 230-232: Approximately 7,000 cy of dredging would restore the design depth of −47 feet MLLW and approximately 1,400 linear feet of sheet piles would be installed to stabilize the wharf. Approximately 1,300 cy of dredging would restore a design depth of −45 feet MLLW between the berthing areas (Berth 229). All proposed depths would include an overdredge depth of an additional two feet below the proposed depths described above. Dredged material would be beneficially re-used, disposed at an approved upland facility, confined disposal facility (CDF) or offshore at LA-2. Construction activities are scheduled to begin in 2016, would take approximately 24 months to complete and would be phased to maintain terminal operations. The following actions do not require a Corps permit but indirect and cumulative impacts of these actions will be evaluated in the Draft EIS/EIR as required by NEPA: Development of approximately 22 acres of existing developed land and 1.5 acres of vacant land as new backlands; installation of infrastructure to support the new backland area (e.g., cable, electricity, lighting, drainage, etc.); closure of portions of Terminal Way, Barracuda Street, Tuna Street, and Ways Street within the Project site and rerouting of Terminal Way traffic to Cannery Street; improvements to Cannery Street; lease amendments to include the new 23.5 acre backland plus 25 acres of existing backlands under space assignment; and, extension of the lease from the current termination date of 2028 to 2038.

3. Issues: Potentially significant issues associated with the project may include: Aesthetics/visual impacts, air quality emissions, biological resource impacts, environmental justice, geologic impacts related to seismicity, hazards and hazardous materials, hydrology and water quality, noise, traffic and transportation, and cumulative impacts from past, present and reasonably foreseeable future projects.

4. Alternatives. The Draft EIS/EIR will include a co-equal analysis of several alternatives. Project alternatives will be further developed during this scoping process. Additional alternatives that may be developed during scoping will also be considered in the Draft EIS/EIR.

5. Scoping Process. The Corps and LAHD will jointly conduct a public scoping meeting for the proposed project to receive public comment regarding the appropriate scope and preparation of the Draft EIS/EIR. Participation by Federal, state, and local agencies and other interested organization and persons is encouraged. This meeting will be conducted in English and Spanish.

6. The Draft EIS/EIR is expected to be available for public review and comment in the fall of 2015, and a public meeting will be held after its publication.

Dated: October 2, 2014.
David J. Castanon,
Chief, Regulatory Division.

[FR Doc. 2014-25267 Filed 10-23-14; 8:45 am]

BILLING CODE 3720-58-P